DEPARTMENT OF TRANSPORTATION

Federal Aviation Administration

Public Notice for a Change in Use of Aeronautical Property at Portland International Jetport, Portland, ME

AGENCY: Federal Aviation Administration (FAA), DOT.

ACTION: Request for Public Comments. Notice of intent of waiver with respect to land.

SUMMARY: The FAA is requesting public comment on the City of Portland, Maine's request to dispose of a portion of airport property (approximately 4.95 acres located in between Johnson Road and the Maine Turnpike in both Portland and South Portland, Maine. The land is no longer needed for aeronautical use, as shown on the Airport Layout Plan. The property requested for disposition is approach land in the Runaway 11 Runway Protection Zone. Upon disposition the property will be transferred to the State of Maine Turnpike Authority for construction of a Jetport interchange. There appear to be no impacts to the airport by allowing the disposal of the property. The property is a portion of several parcels of land acquired under FAA Project No. 9-17-001-507 in 1955.

The disposal of airport property will be in accordance with FAA's Policy and Procedures Concerning the Use of Airport Revenue, published in the Federal Register on February 16, 1999.

DATES: Comments must be received on or before October 11, 2001.

ADDRESSES: Documents are available for review by appointment by contacting Jeff Schultes, Airport Manager at Portland International Jetport, 1001 Westbrook Street, Portland, Maine, Telephone 207-791-8035 and be reviewed in person by contacting Donna R. Witte, Telephone 781-238-7624 at the Federal Aviation Administration, 16 New England Executive Park, Burlington, Massachusetts.

FOR FURTHER INFORMATION CONTACT: Donna R. Witte, Airports Division, Federal Aviation Administration, 12 New England Executive Park, Burlington, Massachusetts 01803, Telephone 781-238-7624.

SUPPLEMENTARY INFORMATION: Section 125 of the Wendell H. Ford Aviation Investment and Reform Act for the 21st Century (AIR 21) requires the FAA to provide an opportunity for public notice and comment to the “waiver” or “modification” of a sponsor's Federal obligation to use certain airport property for aeronautical purposes.

Issued in Burlington, Massachusetts on August 24, 2001.
Vincent A. Scarano,
Manager, Airports Division, New England Region.

[FR Doc. 01-22776 Filed 9-10-01; 8:45 am]

BILLING CODE 4910-13-M